MERIT SYSTEMS PROTECTION BOARD

5 CFR Part 1201

Filing of Constructive Removal Complaints by Administrative Law Judges; Reopening of the Comment Period

AGENCY: Merit Systems Protection Board.

ACTION: Proposed rule; reopening of the comment period.

SUMMARY: The Merit Systems Protection Board (MSPB or “the Board”) is reopening the comment period for a proposed rule published in the Federal Register on August 16, 2005 (70 FR 48081). The proposed rule revised 5 CFR 1201.142 and concerned the filing of constructive removal complaints by administrative law judges. The Board is reopening the comment period because of the widespread disruption caused by hurricanes Rita and Katrina.

DATES: Written comments should be submitted on or before November 25, 2005.

ADDRESSES: Send or deliver comments to the Office of Clerk of the Board, U.S. Merit Systems Protection Board, 1615 M Street, NW., Washington, DC 20419; (202) 653-7200; fax: (202) 653-7130; or e-mail: mspb@mspb.gov.

FOR FURTHER INFORMATION CONTACT: Bentley Roberts, Clerk of the Board, Merit Systems Protection Board, 1615 M Street, NW., Washington, DC 20419; (202) 653-7200; fax: (202) 653-7130; or e-mail: mspb@mspb.gov.

SUPPLEMENTARY INFORMATION: The Board's original notice of the proposed rule (70 FR 48081) contains the relevant supplementary information.

List of Subjects in Part 1201

Administrative personnel, Actions against administrative law judges, Actions filed by administrative law judges.

Bentley M. Roberts,
Clerk of the Board.

[FR Doc. 05-21389 Filed 10-25-05; 8:45 am]

BILLING CODE 7400-01-P